DEPARTMENT OF AGRICULTURE

Commodity Credit Corporation

Announcement of the 2003/2004 Technical Assistance for Specialty Crops Program

AGENCY: Commodity Credit Corporation, USDA.

ACTION: Notice.

SUMMARY: Commodity Credit Corporation has published elsewhere in this issue a final rule establishing the “Technical Assistance for Specialty Crops” program to help open, retain, and expand markets for U.S. specialty crops.

DATES: Proposals will be accepted between July 18, 2003 and 5 p.m. Eastern Daylight Time, August 18, 2003. Proposals will be reviewed, and funding decisions will be made, as proposals are received.

FOR FURTHER INFORMATION CONTACT: Marketing Operations Staff, Foreign Agricultural Service, Room 4932-S, Stop 1042, U.S. Department of Agriculture, 1400 Independence Ave., SW., Washington, DC 20250-1042, or telephone: (202) 720-4327.

SUPPLEMENTARY INFORMATION: To be considered for participation in the Technical Assistance for Specialty Crops (TASC) program, interested parties should submit, via a commercial delivery service (including FedEx, DHL, etc.), proposals to: Director, Marketing Operations Staff, Foreign Agricultural Service, U.S. Department of Agriculture, Room 4932-S, Stop 1042, 14th and Independence Avenue, SW., Washington, DC 20250-1042. All proposals must be received by 5 p.m. Eastern Daylight Time, August 18, 2003. Although entities interested in participating in the TASC program are not required to submit proposals in any specific format, all proposals must contain complete information about the proposed projects as described in the final rule, published elsewhere in this issue, that establishes the program.

Dated: July 11, 2003.
A. Ellen Terpstra,
Administrator, Foreign Agricultural Service, and Vice President, Commodity Credit Corporation.

[FR Doc. 03-18267 Filed 7-17-03; 8:45 am]

BILLING CODE 3410-10-P